DEPARTMENT OF VETERANS AFFAIRS

[OMB Control No. 2900-0747]

Agency Information Collection Activity Under OMB Review: Application for Disability Compensation and Related Compensation Benefits

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before May 10, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-00747” in any correspondence.

FOR FURTHER INFORMATION CONTACT: Danny S. Green, Enterprise Records Service (005R1B), Department of Veterans Affairs, 811 Vermont Avenue NW, Washington, DC 20420, (202) 421-1354 or email danny.green2@va.gov. Please refer to “OMB Control No. 2900-0747” in any correspondence.

SUPPLEMENTARY INFORMATION: Authority: 44 U.S.C. 3501-21.

Title: Application for Disability Compensation and Related Compensation Benefits (VA Form 21-526EZ).

OMB Control Number: 2900-0747.

Type of Review: Revision of a currently approved collection.

Abstract: VA Form 21-526EZ is used to collect the information needed to process a fully developed claim for disability compensation and/or related compensation benefits. Though the law requires the claimant submit a certification in writing that states no additional information or evidence is available or needs to be submitted in order for the claim to be adjudicated via the fully developed claim program, it has further evolved into a standard claim form to be used for any benefit associated with disability compensation; to include new or initial claims, reopened claims, and claims for increase. Due to the receipt of; new or initial claims, reopened and increased claims, and general program changes, such as regulatory changes and the discontinuance of other claims forms, VA Form 21-526EZ is being resubmitted to correct the estimate of burden. No other changes are proposed. This is a burden estimate change only.

An agency may not conduct or sponsor, and a person is not required to respond to a collection of information unless it displays a currently valid OMB control number. The Federal Register Notice with a 60-day comment period soliciting comments on this collection of information was published at 83 FR 224 on November 20, 2018, pages 58690 and 58691.

Affected Public: Individuals or Households.

Estimated Annual Burden: 498,667 hours.

Estimated Average Burden per Respondent: 22 minutes.

Frequency of Response: One time.

Estimated Number of Respondents: 1,360,000.

By direction of the Secretary.
Danny S. Green,
VA Interim Clearance Officer, Office of Quality, Privacy and Risk (OQPR), Department of Veterans Affairs.

[FR Doc. 2019-07106 Filed 4-9-19; 8:45 am]

BILLING CODE 8320-01-P